DEPARTMENT OF EDUCATION

Notice of Public Hearing

AGENCY: U.S. Department of Education, National Assessment Governing Board.

ACTION: Notice of public hearing.

SUMMARY: The National Assessment Governing Board is announcing a public hearing on January 28, 2010 to obtain comment on the draft Technological Literacy Assessment Framework for the National Assessment of Educational Progress (NAEP).

Public and private parties and organizations are invited to present written and/or oral testimony. The hearing will be held at the Washington Court Hotel, 525 New Jersey Avenue, NW., Washington, DC 20001 from 9:30 a.m. to 2:00 p.m. EST.

This notice sets forth the schedule and proposed agenda of a forthcoming public hearing of the National Assessment Governing Board. This notice also describes the functions of the Board. Notice of this meeting is required under Section 10 (a)(2) of the Federal Advisory Committee Act. This document is intended to notify members of the general public of their opportunity to provide comment. Individuals who will need special accommodations in order to attend the hearing (such as interpreting services, assistive listening devices, materials in alternative format) should notify Munira Mwalimu at 202-357-6938 or at Munira.Mwalimu@ed.gov no later than January 21, 2010. We will attempt to meet requests after this date, but cannot guarantee availability of the requested accommodation. The meeting site is accessible to individuals with disabilities.

DATES: January 28, 2010.

Location: Washington Court Hotel, 525 New Jersey Avenue, NW., Washington, DC 20001.

Time: 9:30 a.m. to 2:00 p.m. EST

Background: Under Public Law 107-279, the National Assessment Governing Board (NAGB) is responsible for determining the content and methodology of the National Assessment of Educational Progress (NAEP). The assessment is required to provide a fair and accurate measurement of student academic achievement through a random sampling process that produces representative data for the nation, the states, and other participating jurisdictions. The Board's responsibilities include selecting subject areas to be assessed, developing assessment specifications and frameworks, designing the methodology of the assessment, developing appropriate student achievement levels for each grade and subject tested, developing standards and procedures for interstate and national comparisons, developing guidelines for reporting and disseminating results, and releasing initial NAEP results to the public.

In preparation for a new assessment in the area of Technological Literacy, the Governing Board has contracted with WestEd to convene broad-based panels of policymakers, business representatives, educators, engineers, information communication experts, and others to recommend student knowledge and skills at the 4th, 8th, and 12th grades for a planned assessment of Technological Literacy. The framework covers a broad range of content and practices related to technology and society; design and systems; and information and communication technology. The draft framework was developed during a multi-year, widely-inclusive process. WestEd has conducted numerous forums and other outreach activities to obtain input and feedback on earlier drafts of the assessment framework. This public hearing scheduled for January 28, 2010 is the final forum for interested individuals and organizations to provide feedback on the framework, prior to Board action in early March 2010.

The draft framework is available on the Governing Board Web site at http://www.nagb.org and on the Technological Literacy project Web site at http://www.naeptech2012.org. Other related material on the Governing Board and NAEP may be found at http://www.nagb.org and at http://www.nces.ed.gov/nationsreportcard.

The Board is seeking comment from policymakers, teachers, researchers, state and local school administrators, business representatives, members of interested organizations, and members of the public. Representatives of the Governing Board will conduct the hearing to receive testimony and ask clarifying questions or respond to presentations. Oral testimony should not exceed ten minutes. Testimony will become part of the public record.

To register to present oral testimony on January 28, 2010 at the Washington Court Hotel, in Washington, DC, please call Tessa Regis, of the National Assessment Governing Board staff, at 202-357-7500 or send an e-mail to tessa.regis@ed.gov by 4:00 p.m. (Eastern Time) on Tuesday, January 26, 2010. Written testimony should be sent by mail, fax or e-mail for receipt in the Board office by January 28, 2010. All views will be considered by the Board's Assessment Development Committee and by the full Board. It is anticipated that the Committee will make recommendations to the Governing Board at the Governing Board meeting on March 4-6, 2010.

The Board will make an effort to receive testimony from all persons who wish to present testimony at the hearing, without prior registration, but may not be able to do so. Speakers are encouraged to register in advance and to bring written statements for distribution at the hearing.

Testimony should be sent to: National Assessment Governing Board, 800 North Capitol Street, NW., Suite 825, Washington, DC 20002, Attention: Tessa Regis, Fax: (202) 357-6945, e-mail: tessa.regis@ed.gov.

FOR FURTHER INFORMATION CONTACT: Tessa Regis or Mary Crovo, National Assessment Governing Board, 800 North Capitol Street, NW., Suite 825, Washington, DC 20002-4233, Telephone: (202) 357-6938.

SUPPLEMENTARY INFORMATION: The National Assessment Governing Board is established under section 412 of the National Education Statistics Act of 1994, as amended. The Board formulates policy guidelines for the National Assessment of Educational Progress (NAEP).

Specific questions that the Board seeks responses to include the following:

1. Does the content described in the draft framework represent important information and reasonable expectations for student achievement in technological literacy?

2. Is there an appropriate balance among different areas of technological literacy at grades 4, 8, and 12?

3. Are the skills and practices in the framework treated satisfactorily with appropriate emphasis?

4. Is there an appropriate mix of item types—multiple-choice, short answer, and long constructed response?

5. Does the draft framework provide clear information about the content and format of this NAEP assessment? Are the organization and format of the document appropriate for its intended audiences, including the general public, teachers, policy makers, curriculum specialists, and others?

6. The Board intends to change the assessment title, “Technological Literacy,” to another more appropriate title, which clearly communicates the broad-based nature of the assessment. What are some recommendations for a new title and why are those choices more appropriate than Technological Literacy?

A detailed summary of the hearing that is informative to the public and consistent with the policy of section 5 U.S.C. 552b(c) will be available to the public within 14 days of the meeting. Records are kept of all Board proceedings and are available for public inspection at the U.S. Department of Education, National Assessment Governing Board, Suite 825, 800 North Capitol Street, NW., Washington, DC, from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 12, 2010.
Cornelia S. Orr,
Executive Director, National Assessment Governing Board, U.S. Department of Education.

[FR Doc. 2010-711 Filed 1-14-10; 8:45 am]

BILLING CODE 4000-01-P